DEPARTMENT OF HOMELAND SECURITY

Notice Regarding the Uyghur Forced Labor Prevention Act Entity List

AGENCY: Department of Homeland Security.

ACTION: Notice.

SUMMARY: The U.S. Department of Homeland Security (DHS), as the Chair of the Forced Labor Enforcement Task Force (FLETF), announces the publication and availability of the updated Uyghur Forced Labor Prevention Act (UFLPA) Entity List, a consolidated register of the four lists required to be developed and maintained pursuant to the UFLPA, on the DHS UFLPA website. The updated UFLPA Entity List is also published as an appendix to this notice. This update adds three entities to the section 2(d)(2)(B)(ii) list of the UFLPA and thirty-five entities to the section 2(d)(2)(B)(v) list of the UFLPA. This update adds one entity to both the 2(d)(2)(B)(ii) list and section 2(d)(2)(B)(v) of the UFLPA. This update also includes a technical correction to the name of an entity listed in section 2(d)(2)(B)(ii) of the UFLPA. Details related to the process for revising the UFLPA Entity List are included in this Federal Register notice.

DATES: This notice announces the publication and availability of the UFLPA Entity List updated as of January 15, 2025, included as an appendix to this notice.

ADDRESSES: Persons seeking additional information on the UFLPA Entity List should email the FLETF at FLETF.UFLPA.EntityList@hq.dhs.gov.

FOR FURTHER INFORMATION CONTACT: LeRoy Potts, Director, Entity List Office, Trade and Economic Security, Office of Strategy, Policy, and Plans, DHS. Phone: (202) 891-2331, Email: FLETF.UFLPA.EntityList@hq.dhs.gov.

SUPPLEMENTARY INFORMATION: The U.S. Department of Homeland Security (DHS), on behalf of the Forced Labor Enforcement Task Force (FLETF), is announcing the publication of the updated UFLPA Entity List, a consolidated register of the four lists required to be developed and maintained pursuant to section 2(d)(2)(B) of the Uyghur Forced Labor Prevention Act (Pub. L. 117-78) (UFLPA), to https://www.dhs.gov/uflpa-entity-list. The UFLPA Entity List is available as an appendix to this notice. This update adds three entities to the 2(d)(2)(B)(ii) list of the UFLPA, which identifies entities working with the government of the Xinjiang Uyghur Autonomous Region to recruit, transport, transfer, harbor or receive forced labor or Uyghurs, Kazakhs, Kyrgyz, or members of other persecuted groups out of the Xinjiang Uyghur Autonomous Region. This update also adds thirty-five entities to the section 2(d)(2)(B)(v) list of the UFLPA, which identifies facilities and entities that source material from the Xinjiang Uyghur Autonomous Region or from persons working with the government of Xinjiang or the Xinjiang Production and Construction Corps for purposes of the “poverty alleviation” program or the “pairing-assistance” program or any other government labor scheme that uses forced labor. This update also adds one entity to both the section 2(d)(2)(B)(ii) list and the section 2(d)(2)(B)(v) list of the UFLPA Entity List. This update also includes a technical correction to the name of an entity listed in section 2(d)(2)(B)(ii) of the UFLPA. Future revisions to the UFLPA Entity List, which may include additions, removals or technical corrections, will be published to https://www.dhs.gov/uflpa-entitylist and in the appendices of future Federal Register notices. See appendix 1.

Beginning on June 21, 2022, the UFLPA requires the Commissioner of U.S. Customs and Border Protection to apply a rebuttable presumption that goods mined, produced, or manufactured by entities on the UFLPA Entity List are made with forced labor, and therefore, prohibited from importation into the United States under 19 U.S.C. 1307. See section 3(a) of the UFLPA. As the FLETF revises the UFLPA Entity List, including by making additions, removals, or technical corrections, DHS, on its behalf, will post such revisions to the DHS UFLPA website (https://www.dhs.gov/uflpa-entity-list) and also publish the revised UFLPA Entity List as an appendix to a Federal Register notice.

Background

A. The Forced Labor Enforcement Task Force

Section 741 of the United States-Mexico-Canada Agreement Implementation Act established the FLETF to monitor United States enforcement of the prohibition under section 307 of the Tariff Act of 1930, as amended (19 U.S.C. 1307). See 19 U.S.C. 4681. Pursuant to DHS Delegation Order No. 23034, the DHS Under Secretary for Strategy, Policy, and Plans serves as Chair of the FLETF, an interagency task force that includes the Department of Homeland Security, the Office of the U.S. Trade Representative, and the Departments of Labor, State, Justice, the Treasury, and Commerce (member agencies).¹ See 19 U.S.C. 4681; Executive Order 13923 (May 15, 2020). In addition, the FLETF includes six observer agencies: the Departments of Energy and Agriculture, the U.S. Agency for International Development, the National Security Council, U.S. Customs and Border Protection, and U.S. Immigration and Customs Enforcement Homeland Security Investigations.

¹ The U.S. Department of Homeland Security, as the FLETF Chair, has the authority to invite representatives from other executive departments and agencies, as appropriate. See Executive Order 13923 (May 15, 2020). The U.S. Department of Commerce is a member of the FLETF as invited by the Chair.

B. The Uyghur Forced Labor Prevention Act: Preventing Goods Made With Forced Labor in the People's Republic of China From Being Imported Into the United States

The UFLPA requires, among other things, that the FLETF, in consultation with the Secretary of Commerce and the Director of National Intelligence, develop a strategy (UFLPA section 2(c)) for supporting enforcement of section 307 of the Tariff Act of 1930, to prevent the importation into the United States of goods, wares, articles, and merchandise mined, produced, or manufactured wholly or in part with forced labor in the People's Republic of China. As required by the UFLPA, the Strategy to Prevent the Importation of Goods Mined, Produced, or Manufactured with Forced Labor in the People's Republic of China, which was published on the DHS website on June 17, 2022 (see https://www.dhs.gov/uflpa-strategy), includes the initial UFLPA Entity List, a consolidated register of the four lists required to be developed and maintained pursuant to the UFLPA. See UFLPA Section 2(d)(2)(B).

C. UFLPA Entity List

The UFLPA Entity List addresses distinct requirements set forth in clauses (i), (ii), (iv), and (v) of section 2(d)(2)(B) of the UFLPA that the FLETF identify and publish the following four lists:

(1) a list of entities in the Xinjiang Uyghur Autonomous Region that mine, produce, or manufacture wholly or in part any goods, wares, articles, and merchandise with forced labor;

(2) a list of entities working with the government of the Xinjiang Uyghur Autonomous Region to recruit, transport, transfer, harbor or receive forced labor or Uyghurs, Kazakhs, Kyrgyz, or members of other persecuted groups out of the Xinjiang Uyghur Autonomous Region;

(3) a list of entities that exported products made by entities in lists 1 and 2 from the People's Republic of China into the United States; and

(4) a list of facilities and entities, including the Xinjiang Production and Construction Corps, that source material from the Xinjiang Uyghur Autonomous Region or from persons working with the government of Xinjiang or the Xinjiang Production and Construction Corps for purposes of the “poverty alleviation” program or the “pairing-assistance” program or any other government-labor scheme that uses forced labor.

The UFLPA Entity List is a consolidated register of the above four lists. In accordance with section 3(e) of the UFLPA, effective June 21, 2022, entities on the UFLPA Entity List (listed entities) are subject to the UFLPA's rebuttable presumption that products they produce, wholly or in part, are prohibited from entry into the United States under 19 U.S.C. 1307. The UFLPA Entity List is described in appendix 1 to this notice. The UFLPA Entity List should not be interpreted as an exhaustive list of entities engaged in the practices described in clauses (i), (ii), (iv), or (v) of section 2(d)(2)(B) of the UFLPA.

Revisions to the UFLPA Entity List, including all additions, removals, and technical corrections, will be published on the DHS UFLPA website (https://www.dhs.gov/uflpa-entity-list) and as an appendix to a notice that will be published in the Federal Register. See appendix 1. The FLETF will consider future additions to, or removals from, the UFLPA Entity List based on criteria described in clauses (i), (ii), (iv), or (v) of Section 2(d)(2)(B) of the UFLPA. Any FLETF member agency may submit a recommendation(s) to add, remove or make technical corrections to an entry on the UFLPA Entity List. FLETF member agencies will review and vote on revisions to the UFLPA Entity List accordingly.

Additions to the Entity List

The FLETF will consider future additions to the UFLPA Entity List based on the criteria described in clauses (i), (ii), (iv), or (v) of section 2(d)(2)(B) of the UFLPA. Any FLETF member agency may submit a recommendation to the FLETF Chair to add an entity to the UFLPA Entity List. Following review of the recommendation by the FLETF member agencies, the decision to add an entity to the UFLPA Entity List will be made by majority vote of the FLETF member agencies.

Requests for Removal From the Entity List

Any listed entity may submit a request for removal (removal request) from the UFLPA Entity List along with supporting information to the FLETF Chair at FLETF.UFLPA.EntityList@hq.dhs.gov. In the removal request, the entity (or its designated representative) should provide information that demonstrates that the entity no longer meets or does not meet the criteria described in the applicable clause ((i), (ii), (iv), or (v)) of section 2(d)(2)(B) of the UFLPA. The FLETF Chair will refer all such removal requests and supporting information to FLETF member agencies. Upon receipt of the removal request, the FLETF Chair or the Chair's designated representative may contact the entity on behalf of the FLETF regarding questions on the removal request and may request additional information. Following review of the removal request by the FLETF member agencies, the decision to remove an entity from the UFLPA Entity List will be made by majority vote of the FLETF member agencies.

Listed entities may request a meeting with the FLETF after submitting a removal request in writing to the FLETF Chair at FLETF.UFLPA.EntityList@hq.dhs.gov. Following its review of a removal request, the FLETF may accept the meeting request at the conclusion of the review period and, if accepted, will hold the meeting prior to voting on the entity's removal request. The FLETF Chair will advise the entity in writing of the FLETF's decision on its removal request. While the FLETF's decision on a removal request is not appealable, the FLETF will consider new removal requests if accompanied by new information.

Robert Paschall,
Acting Under Secretary, Office of Strategy, Policy, and Plans, U.S. Department of Homeland Security.

Appendix 1

This notice supersedes the UFLPA Entity List published in the Federal Register on November 25, 2024 (89 FR 92953). The UFLPA Entity List as of January 15, 2025 is available in this appendix and is published on https://www.dhs.gov/uflpa-entity-list. This update adds three entities to the section 2(d)(2)(B)(ii) list of the UFLPA, which identifies entities working with the government of the Xinjiang Uyghur Autonomous Region to recruit, transport, transfer, harbor or receive forced labor or Uyghurs, Kazakhs, Kyrgyz, or members of other persecuted groups out of the Xinjiang Uyghur Autonomous Region:

• Xinjiang Energy (Group) Co., Ltd.

• Xinjiang Energy (Group) Real Estate Co., Ltd.

• Xinjiang Jinbao Mining Co., Ltd.

This update also adds thirty-five entities to the section 2(d)(2)(B)(v) list of the UFLPA, which identifies facilities and entities that source material from the Xinjiang Uyghur Autonomous Region or from persons working with the government of Xinjiang or the Xinjiang Production and Construction Corps for purposes of the “poverty alleviation” program or the “pairing-assistance” program or any other government labor scheme that uses forced labor:

• Aksu Biaoxin Fiber Co., Ltd. (formerly known as Aksu Shangheng Fiber Co., Ltd.)

• Aksu Huafu Color Spinning Co., Ltd. (also known as Aksu Huafu Textiles Co., Ltd.; Akesu Huafu; Aksu Huafu Dyed Melange Yarn; and Akesu Huafu Melange Yarn Co., Ltd.)

• Awati Huafu Textile Co., Ltd.

• Baotou Meike Silicon Energy Co., Ltd.

• Donghai JA Solar Technology Co., Ltd.

• Hongyuan Green Energy Co., Ltd. (also known as HY Solar; and Hoyuan Green Energy Co. Ltd. and formerly known as Wuxi Shangji CNC Co., Ltd.; Wuxi Shangji Automation Co., Ltd.; and Wuxi Shangji Grinding Machine Co., Ltd.)

• Hongyuan New Materials (Baotou) Co., Ltd.

• Huafu Fashion Co., Ltd.

• Huyanghe Huafu Hongsheng Cotton Industry Co., Ltd.

• Jiangsu Meike Solar Technology Co., Ltd. (also known as Meike Co. and formerly known as Jiangsu Gaozhao New Energy Development Co., Ltd.)

• Kuche Zongheng Cotton Industry Co., Ltd.

• Kuitun Jinfu Textile Co., Ltd.

• Ningbo Huafu Donghao Industrial Co., Ltd.

• Ninghai Huafu Textile Co., Ltd.

• Shaya Yinhua Cotton Industry Co., Ltd.

• Shihezi Huafu Hongfeng Cotton Industry Co., Ltd.

• Shihezi Huafu Hongsheng Cotton Industry Co., Ltd.

• Shihezi Standard Fiber Co., Ltd.

• Shuangliang Silicon Materials (Baotou) Co., Ltd.

• Xinjiang Cotton Industry Group Jiashi Cotton Industry Co., Ltd.

• Xinjiang Cotton Industry Group Yuepu Lake Cotton Industry Co., Ltd.

• Xinjiang Habahe Ashele Copper Co., Ltd. (also known as Ashele Copper)

• Xinjiang Huafu Color Spinning Group Co., Ltd.

• Xinjiang Huafu Cotton Industry Group Co., Ltd.

• Xinjiang Huafu Hengfeng Cotton Industry Co., Ltd.

• Xinjiang Huafu Hongfeng Agricultural Development Co., Ltd.

• Xinjiang Huafu Textile Co., Ltd.

• Xinjiang Liufu Textile Industrial Park Co., Ltd.

• Xinjiang Shengfu Cotton Industry Co., Ltd.

• Xinjiang Tianfu Cotton Supply Chain Co., Ltd.

• Xinjiang Tianhong Xinba Cotton Industry Co., Ltd. (also known as Xinjiang Tianhong New Eight Cotton Industry Co., Ltd.)

• Xinjiang Zefu Cotton Co., Ltd.

• Xinjiang Zijin Nonferrous Metals Co., Ltd.

• Zhejiang Weixin Trading Co., Ltd.

• Zijin Mining Group Co., Ltd.

This update also adds one entity to both the section 2(d)(2)(B)(ii) list and the section 2(d)(2)(B)(v) list of the UFLPA:

• Xinjiang Zijin Zinc Industry Co., Ltd.

This update also modifies the name for a listing for one entity on the section 2(d)(2)(B)(ii) list of the UFLPA:

• Aksu Huafu Textiles Co. (including two aliases: Akesu Huafu and Aksu Huafu Dyed Melange Yarn) is changed to Aksu Huafu Color Spinning Co., Ltd. (also known as Aksu Huafu Textiles Co., Ltd.; Akesu Huafu; Aksu Huafu Dyed Melange Yarn; and Akesu Huafu Melange Yarn Co., Ltd.)

Xinjiang Energy (Group) Co., Ltd. is a state owned enterprise based in Urumqi, Xinjiang Uyghur Autonomous Region that is principally engaged in the development and utilization of coal, wind, photovoltaic, oil, gas, and other resources. The United States Government has reasonable cause to believe, based on specific and articulable information, that Xinjiang Energy (Group) Co., Ltd. works with the government of the Xinjiang Uyghur Autonomous Region to recruit, transport, transfer, harbor or receive Uyghurs, Kazakhs, Kyrgyz, or members of other persecuted groups out of the Xinjiang Uyghur Autonomous Region. The FLETF therefore determined that the activities of Xinjiang Energy (Group) Co., Ltd. satisfy the criteria for addition to the UFLPA Entity List described in section 2(d)(2)(B)(ii).

Xinjiang Energy (Group) Real Estate Co., Ltd. is a subsidiary of a state-owned enterprise based in Urumqi, Xinjiang Uyghur Autonomous Region that is principally engaged in real estate development and property management. The United States Government has reasonable cause to believe, based on specific and articulable information, that Xinjiang Energy (Group) Real Estate Co., Ltd. works with the government of the Xinjiang Uyghur Autonomous Region to recruit, transport, transfer, harbor or receive Uyghurs, Kazakhs, Kyrgyz, or members of other persecuted groups out of the Xinjiang Uyghur Autonomous Region. The FLETF therefore determined that the activities of Xinjiang Energy (Group) Real Estate Co., Ltd. satisfy the criteria for addition to the UFLPA Entity List described in section 2(d)(2)(B)(ii).

Xinjiang Jinbao Mining Co., Ltd. is a mine operator based in Altay Prefecture, Xinjiang Uyghur Autonomous Region that is principally engaged in iron mining. The United States Government has reasonable cause to believe, based on specific and articulable information, that Xinjiang Jinbao Mining Co., Ltd. works with the government of the Xinjiang Uyghur Autonomous Region to recruit, transport, transfer, harbor or receive Uyghurs, Kazakhs, Kyrgyz, or members of other persecuted groups out of the Xinjiang Uyghur Autonomous Region. The FLETF therefore determined that the activities of Xinjiang Jinbao Mining Co., Ltd. satisfy the criteria for addition to the UFLPA Entity List described in section 2(d)(2)(B)(ii).

Xinjiang Zijin Zinc Industry Co., Ltd. is a mining company based in Kizilsu Kirgiz Autonomous Prefecture, Xinjiang Uyghur Autonomous Region that is principally engaged in mining and producing zinc. The United States Government has reasonable cause to believe, based on specific and articulable information, that Xinjiang Zijin Zinc Industry Co., Ltd. works with the government of the Xinjiang Uyghur Autonomous Region to recruit, transport, transfer, harbor or receive Uyghurs, Kazakhs, Kyrgyz, or members of other persecuted groups out of the Xinjiang Uyghur Autonomous Region. The FLETF therefore determined that the activities of Xinjiang Zijin Zinc Industry Co., Ltd. satisfy the criteria for addition to the UFLPA Entity List described in section 2(d)(2)(B)(ii).

Aksu Biaoxin Fiber Co., Ltd. (formerly known as Aksu Shangheng Fiber Co., Ltd.) is a textile manufacturer located in Aksu Prefecture, Xinjiang Uyghur Autonomous Region that is principally engaged in cotton processing, fabric printing and dyeing, spinning and fabric textile processing. The United States Government has reasonable cause to believe, based on specific and articulable information, that Aksu Biaoxin Fiber Co., Ltd. sources material from the Xinjiang Uyghur Autonomous Region. The FLETF therefore determined that the activities of Aksu Biaoxin Fiber Co., Ltd. satisfy the criteria for addition to the UFLPA Entity List described in section 2(d)(2)(B)(v).

Aksu Huafu Color Spinning Co., Ltd. (also known as Aksu Huafu Textiles Co., Ltd. Akesu Huafu, Aksu Huafu Dyed Melange Yarn, and Akesu Huafu Melange Yarn Co., Ltd.) is a textile manufacturer located in Aksu Prefecture, Xinjiang Uyghur Autonomous Region that is principally engaged in spinning processing, manufacturing of industrial textile products, and selling cotton and linen. The United States Government has reasonable cause to believe, based on specific and articulable information, that Aksu Huafu Color Spinning Co., Ltd. sources material from the Xinjiang Uyghur Autonomous Region. The FLETF therefore determined that the activities of Aksu Huafu Color Spinning Co., Ltd. satisfy the criteria for addition to the UFLPA Entity List described in section 2(d)(2)(B)(v).

Awati Huafu Textile Co., Ltd. is a textile manufacturer located in Aksu Prefecture, Xinjiang Uyghur Autonomous Region that is principally engaged in the production and sale of cotton yarn and textile manufacturing. The United States Government has reasonable cause to believe, based on specific and articulable information, that Awati Huafu Textile Co., Ltd. sources material from the Xinjiang Uyghur Autonomous Region. The FLETF therefore determined that the activities of Awati Huafu Textile Co., Ltd. satisfy the criteria for addition to the UFLPA Entity List described in section 2(d)(2)(B)(v).

Baotou Meike Silicon Energy Co., Ltd. is a company located in Baotou City in the Inner Mongolia Autonomous Region of China, that manufactures silicon rods and wafers. The United States Government has reasonable cause to believe, based on specific and articulable information, that Baotou Meike Silicon Energy Co., Ltd. sources material from the Xinjiang Uyghur Autonomous Region. The FLETF therefore determined that the activities of Baotou Meike Silicon Energy Co., Ltd satisfy the criteria for addition to the UFLPA Entity List described in section 2(d)(2)(B)(v).

Donghai JA Solar Technology Co., Ltd. is a solar energy technology company located in Jiangsu Province, China, that focuses on the research and development of solar energy products and the production of silicon rods, wafers, ingots, and solar cell modules. Donghai JA Solar Technology Co., Ltd. also imports and exports various commodities and technologies. The United States Government has reasonable cause to believe, based on specific and articulable information, that Donghai JA Solar Technology Co., Ltd. sources material from the Xinjiang Uyghur Autonomous Region. The FLETF therefore determined that the activities of Donghai JA Solar Technology Co., Ltd. satisfy the criteria for addition to the UFLPA Entity List described in section 2(d)(2)(B)(v).

Hongyuan Green Energy Co., Ltd. (also known as HY Solar; and Hoyuan Green Energy Co. Ltd. and formerly known as Wuxi Shangji CNC Co., Ltd.; Wuxi Shangji Automation Co., Ltd.; and Wuxi Shangji Grinding Machine Co., Ltd.) is a vertically integrated green energy manufacturing company located in Jiangsu Province, China, with several major business segments that include high-end equipment manufacturing, new energy power stations, and the production of industrial and crystalline silicon, silicon wafers, batteries, and modules. The United States Government has reasonable cause to believe, based on specific and articulable information, that Hongyuan Green Energy Co., Ltd. sources material from the Xinjiang Uyghur Autonomous Region. The FLETF therefore determined that the activities of Hongyuan Green Energy Co., Ltd. satisfy the criteria for addition to the UFLPA Entity List described in section 2(d)(2)(B)(v).

Hongyuan New Materials (Baotou) Co., Ltd. is a company located in Baotou City, Inner Mongolia Autonomous Region of China, that produces photovoltaic monocrystalline silicon. The United States Government has reasonable cause to believe, based on specific and articulable information, that Hongyuan New Materials (Baotou) Co., Ltd. sources material from the Xinjiang Uyghur Autonomous Region. The FLETF therefore determined that the activities of Hongyuan New Materials (Baotou) Co., Ltd. satisfy the criteria for addition to the UFLPA Entity List described in section 2(d)(2)(B)(v).

Huafu Fashion Co., Ltd. is a company based in Anhui Province, China that is vertically integrated from cotton planting and processing to yarn spinning to textiles manufacturing. The United States Government has reasonable cause to believe, based on specific and articulable information, that Huafu Fashion Co., Ltd. sources material from the Xinjiang Uyghur Autonomous Region. The FLETF therefore determined that the activities of Huafu Fashion Co., Ltd. satisfy the criteria for addition to the UFLPA Entity List described in section 2(d)(2)(B)(v).

Huyanghe Huafu Hongsheng Cotton Industry Co., Ltd. is a textile manufacturer located in Huyanghe City, Xinjiang Uyghur Autonomous Region that is principally engaged in cotton processing and sales of cotton and textile products, among other activities. The United States Government has reasonable cause to believe, based on specific and articulable information, that Huyanghe Huafu Hongsheng Cotton Industry Co., Ltd. sources material from the Xinjiang Uyghur Autonomous Region. The FLETF therefore determined that the activities of Huyanghe Huafu Hongsheng Cotton Industry Co., Ltd. satisfy the criteria for addition to the UFLPA Entity List described in section 2(d)(2)(B)(v).

Jiangsu Meike Solar Technology Co., Ltd. (also known as Meike Co. and formerly known as Jiangsu Gaozhao New Energy Development Co., Ltd.) is a company located in Jiangsu Province, China, that manufactures silicon rods and wafers. The United States Government has reasonable cause to believe, based on specific and articulable information, that Jiangsu Meike Solar Technology Co., Ltd. sources material from the Xinjiang Uyghur Autonomous Region. The FLETF therefore determined that the activities of Jiangsu Meike Solar Technology Co., Ltd. satisfy the criteria for addition to the UFLPA Entity List described in section 2(d)(2)(B)(v).

Kuche Zongheng Cotton Industry Co., Ltd. is a material trading company located in Aksu Prefecture, Xinjiang Uyghur Autonomous Region that is principally engaged in cotton planting and processing. The United States Government has reasonable cause to believe, based on specific and articulable information, that Kuche Zongheng Cotton Industry Co., Ltd. sources material from the Xinjiang Uyghur Autonomous Region. The FLETF therefore determined that the activities of Kuche Zongheng Cotton Industry Co., Ltd. satisfy the criteria for addition to the UFLPA Entity List described in section 2(d)(2)(B)(v).

Kuitun Jinfu Textile Co., Ltd. is a textile manufacturer located in Yili Prefecture, Xinjiang Uyghur Autonomous Region that is principally engaged in fabric textile processing, the purchase of cotton, and fabric printing and dyeing. The United States Government has reasonable cause to believe, based on specific and articulable information, that Kuitun Jinfu Textile Co., Ltd. sources material from the Xinjiang Uyghur Autonomous Region. The FLETF therefore determined that the activities of Kuitun Jinfu Textile Co., Ltd. satisfy the criteria for addition to the UFLPA Entity List described in section 2(d)(2)(B)(v).

Ningbo Huafu Donghao Industrial Co., Ltd. is a materials trading company located in Ningbo City, Zhejiang Province that is principally engaged in trading colored spinning yarn and high-tech gray yarn. The United States Government has reasonable cause to believe, based on specific and articulable information, that Ningbo Huafu Donghao Industrial Co., Ltd. sources material from the Xinjiang Uyghur Autonomous Region. The FLETF therefore determined that the activities of Ningbo Huafu Donghao Industrial Co., Ltd. satisfy the criteria for addition to the UFLPA Entity List described in section 2(d)(2)(B)(v).

Ninghai Huafu Textile Co., Ltd. is a textile manufacturer located in Ningbo City, Zhejiang Province that is principally engaged in the production of color-spun yarn. The United States Government has reasonable cause to believe, based on specific and articulable information, that Ninghai Huafu Textile Co., Ltd. sources material from the Xinjiang Uyghur Autonomous Region. The FLETF therefore determined that the activities of Ninghai Huafu Textile Co., Ltd. satisfy the criteria for addition to the UFLPA Entity List described in section 2(d)(2)(B)(v).

Shaya Yinhua Cotton Industry Co., Ltd. is a materials trading company located in Aksu Prefecture, Xinjiang Uyghur Autonomous Region that is principally engaged in seed cotton purchase processing. The United States Government has reasonable cause to believe, based on specific and articulable information, that Shaya Yinhua Cotton Industry Co., Ltd. sources material from the Xinjiang Uyghur Autonomous Region. The FLETF therefore determined that the activities of Shaya Yinhua Cotton Industry Co., Ltd. satisfy the criteria for addition to the UFLPA Entity List described in section 2(d)(2)(B)(v).

Shihezi Huafu Hongfeng Cotton Industry Co., Ltd. is a textile manufacturer located in Shihezi City, Xinjiang Uyghur Autonomous Region that is principally engaged in the purchase of cotton and sale of textile products. The United States Government has reasonable cause to believe, based on specific and articulable information, that Shihezi Huafu Hongfeng Cotton Industry Co., Ltd. sources material from the Xinjiang Uyghur Autonomous Region. The FLETF therefore determined that the activities of Shihezi Huafu Hongfeng Cotton Industry Co., Ltd. satisfy the criteria for addition to the UFLPA Entity List described in section 2(d)(2)(B)(v).

Shihezi Huafu Hongsheng Cotton Industry Co., Ltd. is a textile manufacturer located in Shihezi City, Xinjiang Uyghur Autonomous Region that is principally engaged in processing and selling cotton. The United States Government has reasonable cause to believe, based on specific and articulable information, that Shihezi Huafu Hongsheng Cotton Industry Co., Ltd. sources material from the Xinjiang Uyghur Autonomous Region. The FLETF therefore determined that the activities of Shihezi Huafu Hongsheng Cotton Industry Co., Ltd. satisfy the criteria for addition to the UFLPA Entity List described in section 2(d)(2)(B)(v).

Shihezi Standard Fiber Co., Ltd. is a textile manufacturer located in Shihezi City, Xinjiang Uyghur Autonomous Region that is principally engaged in dyeing and cotton processing. The United States Government has reasonable cause to believe, based on specific and articulable information, that Shihezi Standard Fiber Co., Ltd. sources material from the Xinjiang Uyghur Autonomous Region. The FLETF therefore determined that the activities of Shihezi Standard Fiber Co., Ltd. satisfy the criteria for addition to the UFLPA Entity List described in section 2(d)(2)(B)(v).

Shuangliang Silicon Materials (Baotou) Co., Ltd. is a company located in Baotou City, in the Inner Mongolia Autonomous Region of China, that researches, develops, processes, manufactures, and sells single crystal silicon rods and wafers. The United States Government has reasonable cause to believe, based on specific and articulable information, that Shuangliang Silicon Materials (Baotou) Co., Ltd. sources material from the Xinjiang Uyghur Autonomous Region. The FLETF therefore determined that the activities of Shuangliang Silicon Materials (Baotou) Co., Ltd. satisfy the criteria for addition to the UFLPA Entity List described in section 2(d)(2)(B)(v).

Xinjiang Cotton Industry Group Jiashi Cotton Industry Co., Ltd. is a textile manufacturer located in Kashgar Prefecture, Xinjiang Uyghur Autonomous Region that is principally engaged in processing and purchasing cotton seed. The United States Government has reasonable cause to believe, based on specific and articulable information, that Xinjiang Cotton Industry Group Jiashi Cotton Industry Co., Ltd. sources material from the Xinjiang Uyghur Autonomous Region. The FLETF therefore determined that the activities of Xinjiang Cotton Industry Group Jiashi Cotton Industry Co., Ltd. satisfy the criteria for addition to the UFLPA Entity List described in section 2(d)(2)(B)(v).

Xinjiang Cotton Industry Group Yuepu Lake Cotton Industry Co., Ltd. is a textile manufacturer located in Kashgar Prefecture, Xinjiang Uyghur Autonomous Region that is principally engaged in seed cotton purchasing and processing. The United States Government has reasonable cause to believe, based on specific and articulable information, that Xinjiang Cotton Industry Group Yuepu Lake Cotton Industry Co., Ltd. sources material from the Xinjiang Uyghur Autonomous Region. The FLETF therefore determined that the activities of Xinjiang Cotton Industry Group Yuepu Lake Cotton Industry Co., Ltd. satisfy the criteria for addition to the UFLPA Entity List described in section 2(d)(2)(B)(v).

Xinjiang Habahe Ashele Copper Co., Ltd. (also known as Ashele Copper) is a mine operator based in Altay Prefecture, Xinjiang Uyghur Autonomous Region that is principally engaged in mining and producing copper, zinc, and silver. The United States Government has reasonable cause to believe, based on specific and articulable information, that Xinjiang Habahe Ashele Copper Co., Ltd. sources material from the Xinjiang Uyghur Autonomous Region. The FLETF therefore determined that the activities of Xinjiang Habahe Ashele Copper Co., Ltd. satisfy the criteria for addition to the UFLPA Entity List described in section 2(d)(2)(B)(v).

Xinjiang Huafu Color Spinning Group Co., Ltd. is a textile manufacturer located in Urumqi City, Xinjiang Uyghur Autonomous Region that is principally engaged in cotton planting, and cotton textile printing and dyeing. The United States Government has reasonable cause to believe, based on specific and articulable information, that Xinjiang Huafu Color Spinning Group Co., Ltd. sources material from the Xinjiang Uyghur Autonomous Region. The FLETF therefore determined that the activities of Xinjiang Huafu Color Spinning Group Co., Ltd. satisfy the criteria for addition to the UFLPA Entity List described in section 2(d)(2)(B)(v).

Xinjiang Huafu Cotton Industry Group Co., Ltd. is a textile manufacturer located in Urumqi City, Xinjiang Uyghur Autonomous Region that is principally engaged in cotton processing, cotton planting, and cotton and linen sales. The United States Government has reasonable cause to believe, based on specific and articulable information, that Xinjiang Huafu Cotton Industry Group Co., Ltd. sources material from the Xinjiang Uyghur Autonomous Region. The FLETF therefore determined that the activities of Xinjiang Huafu Cotton Industry Group Co., Ltd. satisfy the criteria for addition to the UFLPA Entity List described in section 2(d)(2)(B)(v).

Xinjiang Huafu Hengfeng Cotton Industry Co., Ltd. is a textile manufacturer located in Aksu Prefecture, Xinjiang Uyghur Autonomous Region that is principally engaged in cotton and cotton by-product processing. The United States Government has reasonable cause to believe, based on specific and articulable information, that Xinjiang Huafu Hengfeng Cotton Industry Co., Ltd. sources material from the Xinjiang Uyghur Autonomous Region. The FLETF therefore determined that the activities of Xinjiang Huafu Hengfeng Cotton Industry Co., Ltd. satisfy the criteria for addition to the UFLPA Entity List described in section 2(d)(2)(B)(v).

Xinjiang Huafu Hongfeng Agricultural Development Co., Ltd. is a materials trading company located in Aksu Prefecture, Xinjiang Uyghur Autonomous Region that is principally engaged in cotton planting and processing. The United States Government has reasonable cause to believe, based on specific and articulable information, that Xinjiang Huafu Hongfeng Agricultural Development Co., Ltd. sources material from the Xinjiang Uyghur Autonomous Region. The FLETF therefore determined that the activities of Xinjiang Huafu Hongfeng Agricultural Development Co., Ltd. satisfy the criteria for addition to the UFLPA Entity List described in section 2(d)(2)(B)(v).

Xinjiang Huafu Textile Co., Ltd. is a textile manufacturer located in Aksu Prefecture, Xinjiang Uyghur Autonomous Region that is principally engaged in cotton processing and cotton purchasing. The United States Government has reasonable cause to believe, based on specific and articulable information, that Xinjiang Huafu Textile Co., Ltd. sources material from the Xinjiang Uyghur Autonomous Region. The FLETF therefore determined that the activities of Xinjiang Huafu Textile Co., Ltd. satisfy the criteria for addition to the UFLPA Entity List described in section 2(d)(2)(B)(v).

Xinjiang Liufu Textile Industrial Park Co., Ltd. is a textile manufacturer located in Wujiaqu City, Xinjiang Uyghur Autonomous Region that is principally engaged in cotton processing and cotton sales. The United States Government has reasonable cause to believe, based on specific and articulable information, that Xinjiang Liufu Textile Industrial Park Co., Ltd. sources material from the Xinjiang Uyghur Autonomous Region. The FLETF therefore determined that the activities of Xinjiang Liufu Textile Industrial Park Co., Ltd. satisfy the criteria for addition to the UFLPA Entity List described in section 2(d)(2)(B)(v).

Xinjiang Shengfu Cotton Industry Co., Ltd. is a textile manufacturer located in Kashgar Prefecture, Xinjiang Uyghur Autonomous Region that is principally engaged in cotton purchasing, processing, and sales. The United States Government has reasonable cause to believe, based on specific and articulable information, that Xinjiang Shengfu Cotton Industry Co., Ltd. sources material from the Xinjiang Uyghur Autonomous Region. The FLETF therefore determined that the activities of Xinjiang Shengfu Cotton Industry Co., Ltd. satisfy the criteria for addition to the UFLPA Entity List described in section 2(d)(2)(B)(v).

Xinjiang Tianfu Cotton Supply Chain Co., Ltd. is a material trading company located in Kashgar Prefecture, Xinjiang Uyghur Autonomous Region that is principally engaged in cotton planting and sales. The United States Government has reasonable cause to believe, based on specific and articulable information, that Xinjiang Tianfu Cotton Supply Chain Co., Ltd. sources material from the Xinjiang Uyghur Autonomous Region. The FLETF therefore determined that the activities of Xinjiang Tianfu Cotton Supply Chain Co., Ltd. satisfy the criteria for addition to the UFLPA Entity List described in section 2(d)(2)(B)(v).

Xinjiang Tianhong Xinba Cotton Industry Co., Ltd. (also known as Xinjiang Tianhong New Eight Cotton Industry Co., Ltd.) is a textile manufacturer located in Shihezi City, Xinjiang Uyghur Autonomous Region that is principally engaged in spinning, weaving, and producing textiles. The United States Government has reasonable cause to believe, based on specific and articulable information, that Xinjiang Tianhong Xinba Cotton Industry Co., Ltd. sources material from the Xinjiang Uyghur Autonomous Region. The FLETF therefore determined that the activities of Xinjiang Tianhong Xinba Cotton Industry Co., Ltd. satisfy the criteria for addition to the UFLPA Entity List described in section 2(d)(2)(B)(v).

Xinjiang Zefu Cotton Co., Ltd. is a textile manufacturer located in Kashgar Prefecture, Xinjiang Uyghur Autonomous Region that is principally engaged in cotton purchasing, processing, and sales. The United States Government has reasonable cause to believe, based on specific and articulable information, that Xinjiang Zefu Cotton Co., Ltd. sources material from the Xinjiang Uyghur Autonomous Region. The FLETF therefore determined that the activities of Xinjiang Zefu Cotton Co., Ltd. satisfy the criteria for addition to the UFLPA Entity List described in section 2(d)(2)(B)(v).

Xinjiang Zijin Nonferrous Metals Co., Ltd. is a smelter operator based in Kizilsu Kirgiz Autonomous Prefecture, Xinjiang Uyghur Autonomous Region that is principally engaged in smelting and producing refined zinc and sulfuric acid. The United States Government has reasonable cause to believe, based on specific and articulable information, that Xinjiang Zijin Nonferrous Metals Co., Ltd. sources material from the Xinjiang Uyghur Autonomous Region. The FLETF therefore determined that the activities of Xinjiang Zijin Nonferrous Metals Co., Ltd. satisfy the criteria for addition to the UFLPA Entity List described in section 2(d)(2)(B)(v).

Xinjiang Zijin Zinc Industry Co., Ltd. is a mining company based in Kizilsu Kirgiz Autonomous Prefecture, Xinjiang Uyghur Autonomous Region that is principally engaged in mining and producing zinc. The United States Government has reasonable cause to believe, based on specific and articulable information, that Xinjiang Zijin Zinc Industry Co., Ltd. sources material from the Xinjiang Uyghur Autonomous Region. The FLETF therefore determined that the activities of Xinjiang Zijin Zinc Industry Co., Ltd. satisfy the criteria for addition to the UFLPA Entity List described in section 2(d)(2)(B)(v).

Zhejiang Weixin Trading Co., Ltd. is a materials trading company located in Ningbo City, Zhejiang Province that is principally engaged in the sale of cotton. The United States Government has reasonable cause to believe, based on specific and articulable information, that Zhejiang Weixin Trading Co., Ltd. sources material from the Xinjiang Uyghur Autonomous Region. The FLETF therefore determined that the activities of Zhejiang Weixin Trading Co., Ltd. satisfy the criteria for addition to the UFLPA Entity List described in section 2(d)(2)(B)(v).

Zijin Mining Group Co., Ltd. is a global mining company based in Shanghang County, Fujian that is principally engaged in the exploration and extraction of metals, including zinc, copper, lead, silver, gold, iron ore, and sulfuric acid. The United States Government has reasonable cause to believe, based on specific and articulable information, that Zijin Mining Group Co., Ltd. sources material from the Xinjiang Uyghur Autonomous Region. The FLETF therefore determined that the activities of Zijin Mining Group Co., Ltd. satisfy the criteria for addition to the UFLPA Entity List described in section 2(d)(2)(B)(v).

In June 2022, the FLETF added Aksu Huafu Textiles Co. (including two aliases: Akesu Huafu and Aksu Huafu Dyed Melange Yarn) to the UFLPA Entity List under section 2(d)(2)(B)(ii) of the UFLPA. Information reviewed by the FLETF indicates that the correct name and aliases of the entity is Aksu Huafu Color Spinning Co., Ltd. (also known as Aksu Huafu Textiles Co., Ltd.; Akesu Huafu; Aksu Huafu Dyed Melange Yarn; and Akesu Huafu Melange Yarn Co., Ltd.). Therefore, the FLETF has determined to make a technical correction to change the name of the entity as it appears on the UFLPA Entity List described in section 2(d)(2)(B)(ii) to “Aksu Huafu Color Spinning Co., Ltd. (also known as Aksu Huafu Textiles Co., Ltd.; Akesu Huafu; Aksu Huafu Dyed Melange Yarn; and Akesu Huafu Melange Yarn Co., Ltd.),”

No removal requests are being made to the UFLPA Entity List at this time.

The UFLPA Entity List is a consolidated register of the four lists that are required to be developed and maintained pursuant to section 2(d)(2)(B) of the UFLPA. One hundred and forty-four entities that meet the criteria set forth in the four required lists (see sections 2(d)(2)(B)(i), (ii), (iv), and (v) of the UFLPA) are specified on the UFLPA Entity List.

UFLPA Entity List January 15, 2025

UFLPA Section 2(d)(2)(B)(i) A List of Entities in Xinjiang That Mine, Produce, or Manufacture Wholly or in Part Any Goods, Wares, Articles, and Merchandise With Forced Labor

Baoding LYSZD Trade and Business Co., Ltd.

Hetian Haolin Hair Accessories Co. Ltd. (and two aliases: Hotan Haolin Hair Accessories; and Hollin Hair Accessories)

Hetian Taida Apparel Co., Ltd. (and one alias: Hetian TEDA Garment)

Hoshine Silicon Industry (Shanshan) Co., Ltd. (including one alias: Hesheng Silicon Industry (Shanshan) Co.) and subsidiaries

Xinjiang Daqo New Energy, Co. Ltd. (including three aliases: Xinjiang Great New Energy Co., Ltd.; Xinjiang Daxin Energy Co., Ltd.; and Xinjiang Daqin Energy Co., Ltd.)

Xinjiang East Hope Nonferrous Metals Co., Ltd.

Xinjiang GCL New Energy Material Technology, Co. Ltd. (including one alias: Xinjiang GCL New Energy Materials Technology Co.)

Xinjiang Junggar Cotton and Linen Co., Ltd.

Xinjiang Production and Construction Corps (including three aliases: XPCC; Xinjiang Corps; and Bingtuan) and its subordinate and affiliated entities

UFLPA Section 2(d)(2)(B)(ii) A List of Entities Working With the Government of Xinjiang To Recruit, Transport, Transfer, Harbor or Receive Forced Labor or Uyghurs, Kazakhs, Kyrgyz, or Members of Other Persecuted Groups Out of Xinjiang

Aksu Huafu Color Spinning Co., Ltd. (also known as Aksu Huafu Textiles Co., Ltd.; Akesu Huafu; Aksu Huafu Dyed Melange Yarn; and Akesu Huafu Melange Yarn Co., Ltd.)

Anhui Xinya New Materials Co., Ltd. (formerly known as Chaohu Youngor Color Spinning Technology Co., Ltd.; and Chaohu Xinya Color Spinning Technology Co., Ltd.)

Baowu Group Xinjiang Bayi Iron and Steel Co., Ltd. (also known as Xinjiang Bayi Iron and Steel Co. Ltd.; Baosteel Group Xinjiang Bayi Iron and Steel Co., Ltd.; and Bayi Iron and Steel)

Camel Group Co., Ltd.

Changhong Meiling Co., Ltd. (formerly known as Hefei Meiling Co., Ltd.; and Hefei Meiling Group Holdings Limited)

COFCO Sugar Holdings Co., Ltd.

Dongguan Oasis Shoes Co., Ltd. (also known as Dongguan Oasis Shoe Industry Co. Ltd.; Dongguan Luzhou Shoes Co., Ltd.; and Dongguan Lvzhou Shoes Co., Ltd.)

Geehy Semiconductor Co., Ltd.

Hefei Bitland Information Technology Co., Ltd. (including three aliases: Anhui Hefei Baolongda Information Technology; Hefei Baolongda Information Technology Co., Ltd.; and Hefei Bitland Optoelectronic Technology Co., Ltd.)

Kashgar Construction Engineering (Group) Co., Ltd.

KTK Group (including three aliases: Jiangsu Jinchuang Group; Jiangsu Jinchuang Holding Group; and KTK Holding)

Lop County Hair Product Industrial Park

Lop County Meixin Hair Products Co., Ltd.

Nanjing Synergy Textiles Co., Ltd. (including two aliases: Nanjing Xinyi Cotton Textile Printing and Dyeing; and Nanjing Xinyi Cotton Textile).

Ninestar Corporation

No. 4 Vocation Skills Education Training Center (VSETC)

Shandong Meijia Group Co., Ltd. (also known as Rizhao Meijia Group)

Sichuan Jingweida Technology Group Co., Ltd. (also known as Sichuan Mianyang Jingweida Technology Co., Ltd. and JWD Technology; and formerly known as Mianyang High-tech Zone Jingweida Technology Co., Ltd.)

Tanyuan Technology Co. Ltd. (including five aliases: Carbon Yuan Technology; Changzhou Carbon Yuan Technology Development; Carbon Element Technology; Jiangsu Carbon Element Technology; and Tanyuan Technology Development).

Western Gold Co., Ltd.

Western Gold Hami Gold Mine Co., Ltd.

Western Gold Karamay Hatu Gold Mine Co., Ltd.

Xinjiang Energy (Group) Co., Ltd.

Xinjiang Energy (Group) Real Estate Co., Ltd

Xinjiang Habahe Ashele Copper Co., Ltd. (also known as Ashele Copper)

Xinjiang Jinbao Mining Co., Ltd.

Xinjiang Nonferrous Metals Industry Group Co., Ltd.

Xinjiang Production and Construction Corps (XPCC) and its subordinate and affiliated entities

Xinjiang Shenhuo Coal and Electricity Co., Ltd.

Xinjiang Tengxiang Magnesium Products Co., Ltd.

Xinjiang Tianmian Foundation Textile Co., Ltd.

Xinjiang Tianshan Wool Textile Co. Ltd.

Xinjiang Zhonghe Co., Ltd. (also known as Xinjiang Joinworld Co., Ltd.)

Xinjiang Zhongtai Chemical Co. Ltd.

Xinjiang Zhongtai Group Co. Ltd

Xinjiang Zijin Zinc Industry Co., Ltd.

Zhuhai Apex Microelectronics Co., Ltd.

Zhuhai G&G Digital Technology Co., Ltd.

Zhuhai Ninestar Information Technology Co. Ltd.

Zhuhai Ninestar Management Co., Ltd.

Zhuhai Pantum Electronics Co. Ltd.

Zhuhai Pu-Tech Industrial Co., Ltd.

Zhuhai Seine Printing Technology Co., Ltd.

UFLPA Section 2(d)(2)(B)(iv) A List of Entities That Exported Products Described in Clause (iii) From the People's Republic of China Into the United States

Entities identified in sections (i) and (ii) above may serve as both manufacturers and exporters. The FLETF has not identified additional exporters at this time but will continue to investigate and gather information about additional entities that meet the specified criteria.

UFLPA Section 2(d)(2)(B)(v) A List of Facilities and Entities, Including the Xinjiang Production and Construction Corps, That Source Material From Xinjiang or From Persons Working With the Government of Xinjiang or the Xinjiang Production and Construction Corps for Purposes of the “Poverty Alleviation” Program or the “Pairing-Assistance” Program or Any Other Government Labor Scheme That Uses Forced Labor

Aksu Biaoxin Fiber Co., Ltd. (formerly known as Aksu Shangheng Fiber Co., Ltd.)

Aksu Huafu Color Spinning Co., Ltd. (also known as Aksu Huafu Textiles Co., Ltd.; Akesu Huafu; Aksu Huafu Dyed Melange Yarn; and Akesu Huafu Melange Yarn Co., Ltd.)

Anhui Yaozhiyuan Biotechnology Development Co., Ltd. (also known as Anhui Yaozhiyuan Chinese Herbal Medicine Co., Ltd.; Anhui Yaozhiyuan Chinese Medicinal Materials Co., Ltd.; and Anhui Yaozhiyuan Biological Technology Development Co., Ltd.)

Annan Canned Food Co., Ltd. (also known as Nanling County Annan Canned Food Co., Ltd.)

Awati Huafu Textile Co., Ltd.

Baoding LYSZD Trade and Business Co., Ltd.

Baotou Meike Silicon Energy Co., Ltd.

Binzhou Chinatex Yintai Industrial Co., Ltd.

Century Sunshine Group Holdings, Ltd.

Changji Esquel Textile Co., Ltd. (also known as Changji Yida Textile Co., Ltd.)

Changzhou Guanghui Food Ingredients Co., Ltd. (also known as GSweet; Changzhou Guanghui Food Additive Co., Ltd.; and Changzhou Guanghui Food Technology Co., Ltd.; and formerly known as Changzhou Guanghui Biotechnology Co., Ltd.)

Chenguang Biotech Group Co., Ltd.

Chenguang Biotechnology Group Yanqi Co. Ltd.

China Cotton Group Henan Logistics Park Co., Ltd., Xinye Branch

China Cotton Group Nangong Hongtai Cotton Co., Ltd.

China Cotton Group Shandong Logistics Park Co., Ltd.

China Cotton Group Xinjiang Cotton Co.

Dalian Sunspeed Foods Co., Ltd. (also known as Dalian Shengchi International Trade Co., Ltd.)

Donghai JA Solar Technology Co., Ltd.

Esquel Group (also known as Esquel China Holdings Limited)

Fujian Minlong Warehousing Co., Ltd.

Gansu Yasheng International Trading Co., Ltd. (also known as Gansu Yasheng International Trade Co., Ltd.; and Yasheng International Trade; and formerly known as Gansu Yasheng International Trade Group Co., Ltd.)

Guangdong Esquel Textile Co., Ltd.

Hangzhou Union Biotechnology Co., Ltd. (also known as Hangzhou Youer Biotechnology Co., Ltd.; Youer Biotech; and Union Biotech)

Hebei Suguo International Trade Co., Ltd. (also known as Suguo International)

Hebei Tomato Industry Co., Ltd. (also known as Hebei Temeite Industrial Group Co., Ltd.; and formerly known as Hebei Temeite International Trade Co., Ltd.)

Hefei Bitland Information Technology Co. Ltd.

Henan Yumian Group Industrial Co., Ltd.

Henan Yumian Logistics Co., Ltd. (formerly known as 841 Cotton Transfer Warehouse)

Hengshui Cotton and Linen Corporation Reserve Library

Hetian Haolin Hair Accessories Co. Ltd.

Hetian Taida Apparel Co., Ltd.

Heze Cotton and Linen Co., Ltd.

Heze Cotton and Linen Economic and Trade Development Corporation (also known as Heze Cotton and Linen Trading Development General Company)

Hongyuan Green Energy Co., Ltd. (also known as HY Solar; and Hoyuan Green Energy Co. Ltd. and formerly known as Wuxi Shangji CNC Co., Ltd.; Wuxi Shangji Automation Co., Ltd.; and Wuxi Shangji Grinding Machine Co., Ltd.)

Hongyuan New Materials (Baotou) Co., Ltd.

Hoshine Silicon Industry (Shanshan) Co., Ltd., and Subsidiaries

Huafu Fashion Co., Ltd.

Huangmei Xiaochi Yinfeng Cotton (formerly known as Hubei Provincial Cotton Corporation's Xiaochi Transfer Reserve)

Hubei Jingtian Cotton Industry Group Co., Ltd.

Hubei Qirun Investment Development Co., Ltd.

Hubei Yinfeng Cotton Co., Ltd.

Hubei Yinfeng Warehousing and Logistics Co., Ltd.

Hunan Nanmo Biotechnology Co., Ltd. (also known as Hunan Nanmomo Technology Co., Ltd.)

Huyanghe Huafu Hongsheng Cotton Industry Co., Ltd.

Inner Mongolia Qileyuan Food Co., Ltd.

Inner Mongolia Xuanda Food Co., Ltd. (also known as Xuanda Food; and formerly known as Wuyuan County Xuanda Cereals, Oils and Foods Co., Ltd.)

Jiangsu Meike Solar Technology Co., Ltd. (also known as Meike Co. and formerly known as Jiangsu Gaozhao New Energy Development Co., Ltd.)

Jiangsu Yinhai Nongjiale Storage Co., Ltd.

Jiangsu Yinlong Warehousing and Logistics Co., Ltd.

Jiangyin Lianyun Co. Ltd. (also known as Jiangyin Intermodal Transport Co. and Jiangyin United Transport Co.)

Jiangyin Xiefeng Cotton and Linen Co., Ltd.

Jinan Haihong International Trade Co., Ltd. (formerly known as Jinan Haifang Trading Co., Ltd.)

Jining Pengjie Trading Co., Ltd.

Junan Jinsheng Import & Export Co., Ltd. (also known as Junan County Jinsheng Import and Export Co., Ltd.)

Juye Cotton and Linen Station of the Heze Cotton and Linen Corporation

Kingherbs Limited (also known as Changsha Jincao Biotechnology Co., Ltd.)

Kuche Zongheng Cotton Industry Co., Ltd.

Kuitun Jinfu Textile Co., Ltd.

Lanxi Huachu Logistics Co., Ltd.

Linxi County Fangpei Cotton Buying and Selling Co., Ltd.

Lop County Hair Product Industrial Park

Lop County Meixin Hair Products Co., Ltd.

Nanyang Hongmian Logistics Co., Ltd. (also known as Nanyang Red Cotton Logistics Co., Ltd.)

Ningbo Huafu Donghao Industrial Co., Ltd.

Ninghai Huafu Textile Co., Ltd.

No. 4 Vocation Skills Education Training Center (VSETC)

Qingdao Vital Nutraceutical Ingredients BioScience Co., Ltd. (also known as Qingdao Weiyikang Biotechnology Co., Ltd.)

Rare Earth Magnesium Technology Group Holdings, Ltd.

Shanghai JUMP Machinery & Technology Co., Ltd. (also known as Shanghai Jiapai Machinery Technology Co., Ltd.; and formerly known as Shanghai Chituma Food Machinery Technology Co., Ltd.)

Shaya Yinhua Cotton Industry Co., Ltd.

Shihezi Huafu Hongfeng Cotton Industry Co., Ltd.

Shihezi Huafu Hongsheng Cotton Industry Co., Ltd.

Shihezi Standard Fiber Co., Ltd.

Shuangliang Silicon Materials (Baotou) Co., Ltd.

Sichuan Yuan'an Pharmaceutical Co., Ltd. (also known as Sichuan Yuanan Pharmaceutical Co., Ltd.)

Taiyuan Weishan International Economic Business Co., Ltd. (also known as Taiyuan Weishan International Trade Co., Ltd.)

The TNN Development Limited (also known as Dehui (Dalian) International Trade Co., Ltd.)

Tianjin Dunhe International Trade Co., Ltd. (also known as Dunhe Foods)

Tianjin Kunyu International Co., Ltd. (also known as China Kunyu Industrial Co., Ltd.)

Tianjin Tianwei Food Co., Ltd. (formerly known as Tianjin Sanhe Fruit and Vegetable Co., Ltd.)

Turpan Esquel Textile Co., Ltd.

Weifang Alice Food Co., Ltd.

Wugang Zhongchang Logistics Co., Ltd.

Xinjiang Cotton Industry Group Jiashi Cotton Industry Co., Ltd.

Xinjiang Cotton Industry Group Yuepu Lake Cotton Industry Co., Ltd.

Xinjiang Daqo New Energy Co., Ltd. (also known as Xinjiang Great New Energy Co., Ltd.; Xinjiang Daxin Energy Co., Ltd.; and Xinjiang Daqin Energy Co., Ltd.)

Xinjiang Habahe Ashele Copper Co., Ltd. (also known as Ashele Copper)

Xinjiang Huafu Color Spinning Group Co., Ltd.

Xinjiang Huafu Cotton Industry Group Co., Ltd.

Xinjiang Huafu Hengfeng Cotton Industry Co., Ltd.

Xinjiang Huafu Hongfeng Agricultural Development Co., Ltd.

Xinjiang Huafu Textile Co., Ltd.

Xinjiang Junggar Cotton and Linen Co., Ltd.

Xinjiang Liufu Textile Industrial Park Co., Ltd.

Xinjiang Production and Construction Corps (XPCC) and its subordinate and affiliated entities

Xinjiang Shengfu Cotton Industry Co., Ltd.

Xinjiang Tengxiang Magnesium Products Co., Ltd.

Xinjiang Tianfu Cotton Supply Chain Co., Ltd.

Xinjiang Tianhong Xinba Cotton Industry Co., Ltd. (also known as Xinjiang Tianhong New Eight Cotton Industry Co., Ltd.)

Xinjiang Yinlong Agricultural International Cooperation Co.

Xinjiang Zefu Cotton Co., Ltd.

Xinjiang Zijin Nonferrous Metals Co., Ltd.

Xinjiang Zijin Zinc Industry Co., Ltd.

Yili Zhuowan Garment Manufacturing Co., Ltd.

Zhangzhou Hang Fat Import & Export Co., Ltd. (also known as Zhangzhou Hengfa Import and Export Co., Ltd.)

Zhejiang Weixin Trading Co., Ltd.

Zijin Mining Group Co., Ltd.

[FR Doc. 2025-00901 Filed 1-14-25; 8:45 am]

BILLING CODE 9110-9M-P